DEPARTMENT OF ENERGY

Federal Energy Regulatory Commission

Notice of Request for Extension of Time To Commence and Complete Project Construction and Soliciting Comments, Motions To Intervene, and Protests

April 2, 2007.

Take notice that the following hydroelectric application has been filed with the Commission and is available for public inspection:

a. Application Type: Request for Extension of Time.

b. Project No: 11480-004.

c. Date Filed: March 19, 2007.

d. Applicant: Haida Corporation.

e. Name of Project: Upper Reynolds Creek Hydroelectric Project.

f. Location: On Reynolds Creek, near the town of Hydaburg, Copper River Meridian, Prince of Wales, in the Ketchikan County recording district, Alaska.

g. Pursuant to: Pub. L. 109-297, 120 STAT. 1471.

h. Applicant Contact: Donald H. Clarke, Law Offices of GKRSE, 1500 K Street, NW., Suite 330, Washington, DC 20005; (202) 408-5400.

i. FERC Contact: Diane M. Murray, Telephone: (202) 502-8838 and e-mail: diane.murray@ferc.gov.

j. Deadline for filing comments, motions to intervene, and protests: May 10, 2007.

All documents (original and eight copies) should be filed with: Secretary, Federal Energy Regulatory Commission, 888 First Street, NE., Washington, DC 20426. Please include the project number (P-11480-004) on any comments.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The licensee requests that the Commission grant two, two-year extensions of time from the existing deadlines to commence and complete project construction of the Jordan Dam Hydroelectric Project. This will be the first and second 2-year extensions of three authorized by Public Law 109-297. The requested new deadlines would be October 24, 2008, and October 24, 2010, to commence and complete construction, respectively.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “e-Filing” link.

Philis J. Posey,
Acting Secretary.

[FR Doc. E7-6441 Filed 4-5-07; 8:45 am]

BILLING CODE 6717-01-P